DEPARTMENT OF HEALTH AND HUMAN SERVICES

National Committee on Vital and Health Statistics: Meeting

Pursuant to the Federal Advisory Committee Act, the Department of Health and Human Services announces the following advisory committee meeting.

Name: National Committee on Vital and Health Statistics (NCVHS), HHS.

Time and Date: 12 noon-1 p.m. EDT—April 24, 2002.

Place: Conference Call, Participants' Information to be Announced.

Status: Open.

Purpose: During this telephone conference call, the Committee will discuss its comments to the Department on the Current Notice of Proposed Rule Making Covering proposed changes to the Health Insurance Portability and Accountability Act of 1996 (HIPAA) Privacy Rule.

Notice: This conference call is open to the public using a participants' dial-in telephone number and participants' code, but access may be limited by the number of available telephone lines. The number and code will be announced on the NCVHS website http://www.ncvhs.hhs.gov/.

CONTACT PERSON FOR MORE INFORMATION: Substantive program information as well as summaries of meetings and a roster of committee members may be obtained from Majorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/.

Dated: April 17, 2002.
James Scanlon,
Director, Division of Data Policy, Office of the Assistant Secretary for Planning and Evaluation.

[FR Doc. 02-9874 Filed 4-22-02; 8:45 am]

BILLING CODE 4151-01-M